COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: December 1, 2024.

ADDRESSES: Committee for Purchase From People Who Are Blind or Severely Disabled, 355 E Street SW, Suite 325, Washington, DC 20024.

FOR FURTHER INFORMATION CONTACT: For further information or to submit comments contact: Michael R. Jurkowski, telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) are proposed for deletion from the Procurement List:

Product(s)

NSN(s)—Product Name(s):

8465-01-580-1303—Entrenching Tool Carrier, MOLLE Components, OEFCP

Authorized Source of Supply: Chautauqua County Chapter, NYSARC, Jamestown, NY

Authorized Source of Supply: Dallas Lighthouse for the Blind, Inc., Dallas, TX

Contracting Activity: DLA TROOP SUPPORT, PHILADELPHIA, PA

Contracting Activity: W6QK ACC-APG NATICK, NATICK, MA

NSN(s)—Product Name(s):

9905-01-661-2143—Flag, Marking, 2½″ x 3½″, 21″ Staff, Fluorescent Orange

9905-01-661-2147—Flag, Marking, 2½″ x 3½″, 15″ Staff, Yellow

9905-01-661-2148—Flag, Marking, 2½″ x 3½″, 15″ Staff, Red

9905-01-661-2152—Flag, Marking, 4″ x 5″, 21″ Staff, Orange

Authorized Source of Supply: West Texas Lighthouse for the Blind, San Angelo, TX

Contracting Activity: GSA/FSS GREATER SOUTHWEST ACQUISITI, FORT WORTH, TX

Michael R. Jurkowski,
Director, Business Operations.

[FR Doc. 2024-25512 Filed 11-1-24; 8:45 am]

BILLING CODE P